DEPARTMENT OF TRANSPORTATION

Federal Transit Administration

Transfer of Federally Assisted Facility

AGENCY: Federal Transit Administration, DOT.

ACTION: Notice of intent to transfer Federally assisted facility.

SUMMARY: Section 5334(h) of the Federal Transit Laws, as codified, 49 U.S.C. 5301, et. seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the City of Newark, Ohio, (City) intends to transfer a facility and land located at 295 Wilson Street, Newark, Ohio, to the Licking County Board of Commissioners. The City can no longer use the properties because they are no longer operating transit, and will no longer be the recipient of FTA grants. The buildings were purchased with the intention to be utilized for administrative offices and the storage of vehicles for the City's Transit Department. The buildings have been vacant for more than five (5) years in need of rehabilitation, and the transfer will allow the properties to be put to good use.

The Licking County Board of Commissioners will be utilizing the buildings for their Homeland Security & Emergency Management departments. The Homeland Security department will utilize one of the buildings for their administrative personnel. In addition, the buildings would allow for vehicle storage and is centrally located in the county to substantially improve emergency response times in the county. The site will also be used to store and protect seasonal equipment owned by the county as well. The County also agreed to ensuring that this use be maintained for no less than five (5) years.

DATES: Effective Date: Any Federal agency interested in acquiring the facility must notify the FTA Region V office of its interest no later than 30 days from the date of publication of the Federal Register notice.

ADDRESSES: Interested parties should notify the Regional Office by writing to Marisol Simon, Regional Administrator, Federal Transit Administration, 200 West Adams Street, Suite 320, Chicago, IL 60606.

FOR FURTHER INFORMATION CONTACT: Nichole Neal, Transportation Program Specialist, (312) 353-2792.

SUPPLEMENTARY INFORMATION:

Background

49 U.S.C. 5334(h) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(h)(1).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(h)(1)(D) of the Federal Transit Laws. Accordingly, FTA hereby provides notice of the availability of the facility further described below. Any Federal agency interested in acquiring the affected facility should promptly notify the FTA. If no Federal agency is interested in acquiring the existing facility, FTA will make certain that the other requirements specified in 49 U.S.C. 5334(h)(1)(A) through (C) are met before permitting the asset to be transferred.

Additional Description of Land or Facility

The Parcel number is 054-217770-00.001 and consists of approximately 80,112 square feet of land. This property is approximately 1.8391 acres. There are two commercial warehouses on the property that are in good condition. One building is 60 feet x 100 feet, for a total of 6,000 square feet. This building has approximately 1,000 square feet of finished office area and 5,000 square feet of unfinished storage space with a finished concrete floor. The second building is 40 feet x 100 feet for a total of 4,000 square feet and it has approximately 1,000 square feet of finished/dry walled area with 3,000 square feet of unfinished storage space. The buildings are connected to city services of water and sewer. In addition, the electrical and telephone services are installed with natural gas lines access for each building on the parcel. Each of the buildings on the parcel has HVAC systems installed to service the finished areas. Phase 1 Hazardous Waste assessment surveys were conducted in 2009 and there were no issues associated with the site.

Marisol Simon,
Regional Administrator.

[FR Doc. 2014-01740 Filed 1-29-14; 8:45 am]

BILLING CODE P